DEPARTMENT OF THE INTERIOR

Bureau of Land Management

[NV-952-05-1420-BJ]

Filing of Plats of Survey; Nevada

AGENCY: Bureau of Land Management, Interior.

ACTION: Notice.

SUMMARY: The purpose of this notice is to inform the public and interested State and local government officials of the filing of Plats of Survey in Nevada.

EFFECTIVE DATES: Filing is effective at 10 a.m. on the dates indicated below.

FOR FURTHER INFORMATION CONTACT: David D. Morlan, Chief, Branch of Geographic Sciences, Bureau of Land Management (BLM), Nevada State Office, 1340 Financial Blvd., P.O. Box 12000, Reno, Nevada 89520, 775-861-6541.

SUPPLEMENTARY INFORMATION: 1. The Plat of Survey of the following described lands was officially filed at the Nevada State Office, Reno, Nevada, on August 13, 2004:

The plat, in seven (7) sheets, representing the dependent resurvey of portions of the California-Nevada State Line from Mile Post 168 to Mile Post 171, and from Mile Post 173 to Mile Post 175, portions of the old California-Nevada State Line, portions of the south, east and north boundaries, a portion of the subdivisional lines, the subdivision of sections 6, 7,10, 14, 22, 23, 24, 29, 30, 31, and 32, and metes-and-bounds surveys in certain sections, Township 19 North, Range 18 East, Mount Diablo Meridian, Nevada and California, under Group No. 768, Nevada, and Group No. 1280, California, was accepted August 5, 2004.

This survey was executed to meet certain administrative needs of the U.S. Forest Service.

2. The Supplemental Plat of the following described lands was officially filed at the Nevada State Office, Reno, Nevada, on August 13, 2004:

The supplemental plat, showing a subdivision of lot 16, sec. 1, T. 19 S., R. 59 E., Mount Diablo Meridian, Nevada, was accepted August 12, 2004.

This supplemental plat was prepared to meet certain administrative needs of the Bureau of Land Management.

3. The Plat of Survey of the following described lands was officially filed at the Nevada State Office, Reno, Nevada, on August 26, 2004:

The plat representing the dependent resurvey of a portion of the west boundary, a portion of the subdivisional lines and portions of the subdivision of section 6, the corrective resurvey of portions of the subdivision of section 6, the further subdivision of section 6, and the metes-and-bounds survey of Lot 22 in section 6, Township 21 South, Range 59 East, Mount Diablo Meridian, Nevada, under Group No. 750, was accepted August 25, 2004.

This survey was executed to meet certain administrative needs of the Bureau of Land Management.

4. The Plat of Survey of the following described lands was officially filed at the Nevada State Office, Reno, Nevada, on September 2, 2004:

The plat, in four (4) sheets, representing the dependent resurvey of a portion of the subdivisional lines and the subdivision of sections 10, 11 and 15, the survey of portions of the avulsed channel of the Truckee River in sections 10 and 11, and the meanders of the Truckee River in section 10, 11 and 15, and certain metes-and-bounds-surveys in sections 10, 11 and 15, Township 19 North, Range 21 East, Mount Diablo Meridian, Nevada, under Group No. 811, was accepted September 1, 2004.

This survey was executed to meet certain administrative needs of the Bureau of Land Management.

5. The Plat of Survey of the following described lands was officially filed at the Nevada State Office, Reno, Nevada, on September 30, 2004:

The plat, in four (4) sheets, representing the dependent resurvey of the Third Standard Parallel South, through portions of Range 63 East, a portion of the south boundary, the east boundary, and a portion of the subdivisional lines, and metes-and-bounds surveys of portions of U.S. Highway No. 93 and Nevada State Route No. 168, and a metes-and-bounds survey in section 1, Township 13 South, Range 63 East, Mount Diablo Meridian, Nevada, under Group No. 814, was accepted September 29, 2004.

This survey was executed to meet certain administrative needs of the Bureau of Land Management and Coyote Springs Investments, Inc.

6. The Plat of Survey of the following described lands will be officially filed at the Nevada State Office, Reno, Nevada on the first business day after thirty (30) days from the publication of this notice:

The plat, in three (3) sheets, representing the survey of the Third Standard Parallel South, through a portion of Range 64 East, and portions of the south boundary and subdivisional lines, and a metes-and-bounds survey of a portion of Nevada State Route No. 168, and a metes-and-bounds survey through sections 6, 7, 18, 19, and 30, Township 13 South, Range 64 East, Mount Diablo Meridian, Nevada, under Group No. 814, was accepted September 29, 2004.

This survey was executed to meet certain administrative needs of the Bureau of Land Management and Coyote Springs Investments, Inc.

7. Subject to valid existing rights, the provisions of existing withdrawals and classifications, the requirements of applicable laws, and other segregations of record, these lands are open to application, petition, and disposal, including application under the mineral leasing laws. All such valid applications received on or before the official filing of the Plat of Survey described in paragraph 6, shall be considered as simultaneously filed at that time. Applications received thereafter shall be considered in order of filing.

8. The above-listed surveys are now the basic record for describing the lands for all authorized purposes. These surveys have been placed in the open files in the BLM Nevada State Office and are available to the public as a matter of information. Copies of the surveys and related field notes may be furnished to the public upon payment of the appropriate fees.

Dated: October 1, 2004.
David J. Clark,
Acting Chief Cadastral Surveyor, Nevada.

[FR Doc. 04-22725 Filed 10-7-04; 8:45 am]

BILLING CODE 4310-HC-P